FEDERAL MEDIATION AND CONCILIATION SERVICE

Submission for OMB Review; 30-Day Comment Request; Generic Clearance for the Collection of Qualitative Feedback on Agency Service Delivery

AGENCY: Federal Mediation and Conciliation Service.

ACTION: Notice.

SUMMARY: In compliance with the Paperwork Reduction Act of 1995, the Federal Mediation and Conciliation Service (FMCS) has submitted to the Office of Management and Budget (OMB) a request for review and approval of a Generic Clearance for the Collection of Qualitative Feedback on Agency Service Delivery (Generic Clearance).

DATES: Written comments must be received on or before May 24, 2019.

ADDRESSES: Written comments and/or suggestions regarding the item(s) contained in this notice, especially regarding the estimated public burden and associated response time, should be directed to the: Office of Management and Budget, Office of Regulatory Affairs, OIRA_submission@omb.eop.gov or by fax to 202-395-6974, Attention: Desk Officer for FMCS.

FOR FURTHER INFORMATION CONTACT: For specific questions related to collection activities, please contact Jeannette Walters-Marquez, 202-606-5488, jwmarquez@fmcs.gov.

SUPPLEMENTARY INFORMATION: This proposed information collection was previously published in the Federal Register on February 13, 2019 (Vol. 84, No. 30) and allowed 60 days for public comment. No public comments were received. The purpose of this notice is to allow an additional 30 days for public comment. The Federal Mediation and Conciliation Service may not conduct or sponsor, and the respondent is not required to respond to, an information collection that has been extended, revised or implemented on or after October 1, 1995, unless it displays a current valid OMB control number.

In compliance with Section 3507(a)(1)(D) of the Paperwork Reduction Act of 1995, the FMCS has submitted to OMB a request for review and approval of the information collection below.

Proposed Collection: Generic Clearance for the Collection of Qualitative Feedback on Agency Service Delivery.

Need and Use of Information Collection: The information collection activity will garner qualitative customer and stakeholder feedback in an efficient manner, in accordance with the Administration's commitment to improving service delivery. By qualitative feedback we mean information that provides useful insights on perceptions and opinions, but are not statistical surveys that yield quantitative results that can be generalized to the population of study. This feedback will provide insights into customer or stakeholder perceptions, experiences and expectations, provide an early warning of issues with service, or focus attention on areas where communication, training or changes in operations might improve delivery of products or services. These collections will allow for ongoing, collaborative and actionable communications between the Agency and its customers and stakeholders. It will also allow feedback to contribute directly to the improvement of program management.

Feedback collected under this generic clearance will provide useful information, but it will not yield data that can be generalized to the overall population.

OMB approval is requested for 3 years. There are no costs to respondents other than their time. The total estimated annualized burden hours are 1,167.

Current Action: New collection of information.

Type of Review: New collection.

Affected Public: Individuals and Households, Businesses and Organizations, State, Local or Tribal Government.

Below we provide projected average annual estimates:

Estimated Number of Annual Respondents: 7,000.

Expected Annual Number of Activities: 1.

Number of Respondents per Activity: 1.

Annual Responses: 7,000.

Frequency of Response: Once per request.

Average Minutes per Response: 10.

Average Expected Annual Burden hours: 1,167 (7,000 responses × 10/60 minutes).

Dated: April 18, 2019.
Jeannette Walters-Marquez,
Deputy General Counsel, Federal Mediation and Conciliation Service.

[FR Doc. 2019-08235 Filed 4-23-19; 8:45 am]

BILLING CODE 6732-01-P